DEPARTMENT OF TRANSPORTATION

Federal Railroad Administration

[Docket Number FRA-2024-0124]

Notice of Petition for Extension of Waiver of Compliance

AGENCY: Federal Railroad Administration (FRA), Department of Transportation (DOT).

ACTION: Notice.

SUMMARY: This document provides the public notice that the City of North Salt Lake and Salt Lake City (the Cities) jointly petitioned FRA for an extension of relief from certain regulations concerning grade crossing warning devices at crossings within a quiet zone.

DATES: FRA must receive comments on the petition by January 12, 2026. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Brian Gilleran, Railroad Safety Specialist, FRA Grade Crossing & Trespasser Outreach, telephone: 202-493-6276, email: brian.gilleran@dot.gov.

SUPPLEMENTARY INFORMATION: Under part 211 of title 49 Code of Federal Regulations (CFR), this document provides the public notice that by letter dated September 15, 2025 the Cities petitioned FRA for an extension of a waiver of compliance from certain provisions of the Federal railroad safety regulations contained at 49 CFR part 222 (Use of Locomotive Horns at Public Highway-Rail Grade Crossings). FRA assigned the petition Docket Number FRA-2024-0124.

The Cities request extended relief from 49 CFR 222.35(b)(1), What are the minimum requirements for quiet zones?, which requires that each public highway-rail grade crossing in a quiet zone “must be equipped, no later than the quiet zone implementation date, with active grade crossing warning devices comprising both flashing lights and gates which control traffic over the crossing.” The Cities were previously granted a one-year waiver to bring the crossings within the Woods Cross Quiet Zone (crossing numbers 805664P and 805836V) into compliance by completing the design and construction of a new signal mast and gate arms. In their petition, the Cities request one additional year of relief to complete the construction of these devices, as involved railroad companies must still finalize the agreements to perform the work and then order the equipment, which has a long lead time.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by January 12, 2026 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-22541 Filed 12-10-25; 8:45 am]

BILLING CODE 4910-06-P